DEPARTMENT OF ENERGY

Federal Energy Regulatory Commission

Notice of Effectiveness of Exempt Wholesale Generator or Foreign Utility Company Status

September 24, 2007.

In the Matter of: Docket Nos. EG07-49-000, EG07-52-000, EG07-53-000, EG07-54-000, EG07-55-000, EG07-56-000, FC07-50-000, FC07-51-000, Sweetwater Wind 4 LLC, Goat Mountain Wind, LP, Bethlehem Renewable Energy, LLC, Stanton Wind Energy, LLC, Scurry County Wind II, LLC, Tiverton Power, Inc., Rumford Power, Inc., TransCanada Energy, Ltd., CMS Enterprise Company

Take notice that during the month of July 2007, the status of the above-captioned entities as Exempt Wholesale Generators or Foreign Utility Companies became effective by operation of the Commission's regulations. 18 CFR 366.7(a).

Kimberly D. Bose,
Secretary.

[FR Doc. E7-19774 Filed 10-5-07; 8:45 am]

BILLING CODE 6717-01-P